ENVIRONMENTAL PROTECTION AGENCY

40 CFR Part 63

[EPA-HQ-OAR-2008-0708, FRL-9736-7]

RIN 2060-AQ58

National Emission Standards for Hazardous Air Pollutants for Reciprocating Internal Combustion Engines; New Source Performance Standards for Stationary Internal Combustion Engines

AGENCY: Environmental Protection Agency (EPA).

ACTION: Proposed rule; reopening of comment period.

SUMMARY: The EPA is reopening the public comment period for the proposed amendments to the National Emission Standards for Hazardous Air Pollutants for Stationary Reciprocating Internal Combustion Engines to solicit comment on specific issues raised during the initial public comment period regarding existing engines on offshore vessels.

DATES: Comments. Comments must be received on or before November 2, 2012.

ADDRESSES: Submit your comments, identified by Docket ID No. EPA-HQ-OAR-2008-0708, by one of the following methods:

• www.regulations.gov: Follow the on-line instructions for submitting comments.

• Email: a-and-r-docket@epa.gov.

• Fax: (202) 566-1741.

• Mail: Air and Radiation Docket and Information Center, Environmental Protection Agency, Mailcode: 2822T, 1200 Pennsylvania Ave. NW., Washington, DC 20460. Please include a total of two copies. The EPA requests a separate copy also be sent to the contact person identified below (see FOR FURTHER INFORMATION CONTACT).

• Hand Delivery: Air and Radiation Docket and Information Center, U.S. EPA, Room B102, 1301 Constitution Avenue NW., Washington, DC. Such deliveries are only accepted during the Docket's normal hours of operation, and special arrangements should be made for deliveries of boxed information.

Instructions: Direct your comments to Docket ID No. EPA-HQ-OAR-2008-0708. The EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means the EPA will not know your identity or contact information unless you provide it in the body of your comment. If you send an email comment directly to the EPA without going through www.regulations.gov, your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption and be free of any defects or viruses.

Docket: All documents in the docket are listed in the www.regulations.gov index. The EPA also relies on documents in Docket ID Nos. EPA-HQ-OAR-2002-0059, EPA-HQ-OAR-2005-0029, EPA-HQ-OAR-2005-0030 and EPA-HQ-OAR-2010-0295, and incorporated those dockets into the record for this action. Although listed in the index, some information is not publicly available, e.g., CBI or other information whose disclosure is restricted by statute. Certain other material, such as copyrighted material, will be publicly available only in hard copy. Publicly available docket materials are available either electronically in www.regulations.gov or in hard copy at the Air and Radiation Docket, EPA/DC, EPA West, Room 3334, 1301 Constitution Ave. NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: Ms. Melanie King, Energy Strategies Group, Sector Policies and Programs Division (D243-01), Environmental Protection Agency, Research Triangle Park, North Carolina 27711; telephone number (919) 541-2469; facsimile number (919) 541-5450; email address king.melanie@epa.gov.

SUPPLEMENTARY INFORMATION: On June 7, 2012, the EPA published in the Federal Register the proposed rule, “National Emission Standards for Hazardous Air Pollutants for Reciprocating Internal Combustion Engines; New Source Performance Standards for Stationary Internal Combustion Engines” (77 FR 33812). The June 7, 2012, action proposed to make specific amendments to the national emission standards for hazardous air pollutants (NESHAP) for stationary reciprocating internal combustion engines (RICE), as well as other regulations. The EPA received comments during the public comment period recommending that the RICE NESHAP be amended such that for any existing compression ignition (CI) RICE on offshore drilling vessels on the Outer Continental Shelf (OCS) that become subject to the RICE NESHAP as a result of the operation of the OCS regulations (40 CFR part 55), such engines may meet the NESHAP through management practices rather than numeric emission limits.¹ This amendment was not contained or contemplated in the proposal that was published on June 7, 2012. However, the comments indicate several significant issues related to application of the NESHAP to regulation of existing marine vessel engines located in the OCS as a result of the OCS regulations; in particular, whether the numerical standards applicable to other CI engines located at area sources (marine vessels located in the OCS are generally located at area sources) are technologically feasible for existing marine engines located in the OCS. Some commenters note specific technological issues relevant to engines on marine vessels in the OCS. Commenters suggest that, to the extent marine vessel engines become subject to the NESHAP as a result of the OCS regulations, they should be subject to generally available control technology (GACT) requirements that they believe are more appropriate for these types of engines. Given the significance of these issues, the EPA believes it is appropriate to request comment on these issues in the context of this rulemaking.

¹ See document numbers EPA-HQ-OAR-2008-0708-0965 (comment from BHP Billiton Petroleum), EPA-HQ-OAR-2008-0708-1004 at p. 3 (comment from Truck and Engine Manufacturers Association), EPA-HQ-OAR-2008-0708-1020 (comment from Anadarko Petroleum Corporation), EPA-HQ-OAR-2008-0708-1071 (comment from Offshore Operators Committee), EPA-HQ-OAR-2008-0708-1105 at p. 6 (comment from American Petroleum Institute), and EPA-HQ-OAR-2008-0708-1145 at p. 2 (comment from Alaska Oil and Gas Association).

The RICE NESHAP does not on its face apply to mobile sources, including marine vessels. However, OCS Air Regulations, codified at 40 CFR part 55, specify that vessels are OCS sources when they are (1) permanently or temporarily attached to the seabed and erected thereon and used for the purpose of exploring, developing or producing resources therefrom, within the meaning of section 4(a)(1) of the OCS Lands Act (43 U.S.C. § 1331, et seq.); or (2) physically attached to an OCS facility, in which case only the stationary sources aspects of the vessels will be regulated. 40 CFR 55.2. In addition, the OCS regulations provide that NESHAP requirements apply to a marine vessel that is an OCS source where the provisions are “rationally related to the attainment and maintenance of the Federal or State ambient air quality standards or the requirements of part C of title I of the Act.” 40 CFR 55.13(e). As a result, the commenters have requested that any marine vessel that becomes subject to the requirements of the RICE NESHAP as a result of the operation of 40 CFR part 55, be subject to maintenance-based management practices similar to those proposed for remote spark ignition (SI) engines, rather than the numerical emission limits otherwise applicable. The commenters indicated that these management practices are more appropriate as GACT for existing stationary CI RICE on vessels operating on the OCS. The management practices proposed for remote SI engines and currently required in the rule for smaller CI engines include changing the oil and filter, inspecting the air cleaner or spark plugs and inspecting all hoses and belts within specified intervals. Facilities have the option of using an oil analysis program to extend the oil change requirement. The EPA requests comment on the information provided in the public comments regarding compliance by existing stationary CI RICE on vessels operating on the OCS with the current RICE NESHAP emission limits, in particular, the comments related to technological feasibility.

How can I get copies of this document and other related information?

The EPA has established a docket for the proposed rule, “National Emission Standards for Hazardous Air Pollutants for Reciprocating Internal Combustion Engines; New Source Performance Standards for Stationary Internal Combustion Engines” under Docket ID No. EPA-HQ-OAR-2008-0708, available at www.regulations.gov.

List of Subjects in 40 CFR Part 63

Environmental Protection, Administrative practice and procedure, Air pollution control, Hazardous substances, Intergovernmental relations, Reporting and recordkeeping requirements.

Dated: September 25, 2012.
Gina McCarthy,
Assistant Administrator.

[FR Doc. 2012-24379 Filed 10-2-12; 8:45 am]

BILLING CODE 6560-50-P